COMMITTEE FOR PURCHASE FROM PEOPLE WHO ARE BLIND OR SEVERELY DISABLED

Correction of Notice of Addition

In the document appearing on page 10640, FR Doc E7-4255, Procurement List Additions and Deletions, in the issue of Friday, March 9, 2007, in the second column, the Committee published addition of a product NSN: 8950-01-E61-0103—Cayenne Pepper. This notice corrects that addition of the product to read as follows NSN: 8950-01-E61-0103—Spice Blend Canadian Style for Beef. The other additions announced in the Notice remain the same. The effective date of April 8, 2007 remains the same.

Sheryl D. Kennerly,
Director Information Management.

[FR Doc. E7-5420 Filed 3-22-07; 8:45 am]

BILLING CODE 6353-01-P